DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: NOAA Satellite Ground Station Customer Questionnaire.

OMB Control Number: 0648-0227.

Form Number(s): None.

Type of Request: Regular submission.

Number of Respondents: 100.

Average Hours Per Response: 10 minutes.

Burden Hours: 17.

Needs and Uses: This request is for an extension of a currently approved collection.

NOAA asks people who operate ground receiving stations that receive data from NOAA satellites to complete a questionnaire about the types of data received, its use, the equipment involved, and similar subjects. The data obtained are used by NOAA for short-term operations and long-term planning. Collection of this data assists us in complying with the terms of our Memorandum of Understanding (MOU) with the World Meteorological Organization: United States Department of Commerce, National Oceanic and Atmospheric Administration (NOAA) on area of common interest (2008).

Affected Public: Not-for-profit organizations.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: December 16, 2011.
Gwellnar Banks,
Management Analyst, Office of the Chief Information Officer.

[FR Doc. 2011-32621 Filed 12-20-11; 8:45 am]

BILLING CODE 3510-HR-P